DEPARTMENT OF HEALTH AND HUMAN SERVICES

Administration for Community Living; Agency Information Collection Activities: Proposed Collection; Public Comment Request; Protection and Advocacy for Traumatic Brain Injury (PATBI) Program Performance Report

AGENCY: Administration for Community Living, HHS.

ACTION: Notice.

SUMMARY: The Administration on Disability is announcing that the proposed collection of information listed above has been submitted to the Office of Management and Budget (OMB) for review and clearance as required under section 506 (c)(2)(A) of the Paperwork Reduction Act of 1995. This notice collects comments on the information collection requirements related to a new data collection (ICR New).

DATES: Submit written comments on the collection of information by May 26, 2017.

ADDRESSES: Submit written comments on the collection of information by fax 202.395.5806 or by email to OIRA_submission@omb.eop.gov, Attn: OMB Desk Officer for ACL.

FOR FURTHER INFORMATION CONTACT: Wilma Roberts, Administration for Community Living, Administration on Intellectual and Developmental Disabilities, Office of Program Support, 330 C Street SW., Washington, DC 20201, by email: Wilma.Roberts@acl.hhs.gov or phone 202-795-7449.

SUPPLEMENTARY INFORMATION: ACL has submitted the following proposed collection of information to OMB for review and clearance. The Children's Health Act of 2000, 42 U.S.C. Section 300d-53(h), requires the Protection and Advocacy (P&A) System in each State to annually prepare and submit to the Secretary a report that includes documentation of the progress they have made in serving individuals with traumatic brain injury. AIDD will review the program performance reports (PPRs) for compliance and for program outcomes. AIDD also will aggregate the information in the PPRs into a national profile of programmatic activities and accomplishments. Information from these reports is shared with the public through postings to the ACL.gov Web site. The information will also allow AIDD to track accomplishments against performance goals and determine areas where technical assistance is needed to comply with Federal requirements or improve performance. The annual PPRs are reviewed by federal staff for compliance and performance in established outcome areas. Information in the PPRs is analyzed to create a national profile of programmatic compliance, outcomes, and goals and priorities for P&A Systems for tracking accomplishments, goals and to determine areas of technical assistance the P&As need related to compliance with Federal requirements and program performance. Information collected in the unified report will inform AIDD of trends in P&A advocacy, collaboration with other federally-funded entities, and identify best practices for efficient use of federal funds.

Comments in Response to the 60 Day Federal Register Notice

A notice was published in the Federal Register in Vol. 82, No. 10, pages 4888-4889, on January 17, 2017, announcing that ACL was requesting approval of a new data collection. ACL has not received any comments expressing concern related to the new PPR reporting forms for the P&A program. However, additional technical changes were made to the PATBI PPR template to clarify certain information collection items in the form. In Part I, section C(1)—Public Relations and Outreach, ACL added the language “racial and ethnic” before the word “minority” to the section C(1) question, “Describe the agency's outreach efforts to previously unserved or underserved individuals, including minority communities” to make sure the question is clear. In Part II, section B, item 14.5 was updated to “TANF” from “Welfare Reform,” and item 16 was updated to “Other Government Benefits/Services” from “Government Benefits/Services.” Last, Part II, section H, item 2 was updated to “American Indian/Alaska Native” from “American Indian/Alaskan Native.”

The PPR will allow federal staff to review the programs performance and achievement and assist where technical assistance is needed. Additionally, information contained in the PPR provides performance measures based on the annual reports. The performance data is reported to Congress under the Government Performance and Results Act Modernization Act (GPRAMA).

The proposed Protection and or Traumatic Brain Injury (PATBI) Program Performance Report (PPR) form can be found on the AIDD Web site at: https://acl.gov/Programs/AIDD/Program_Resource_Search/Results_PA.aspx.

ACL estimates the burden hours for this collection of information as follows:

Annual Burden Estimates
Instrument | Number of respondents | Number of responses per respondent | Average burden hours per response | Total burden hours
PATBI PPR | 57 | 1 | 16 | 912

Dated: April 20, 2017.
Daniel P. Berger,
Acting Administrator and Assistant Secretary for Aging.

[FR Doc. 2017-08435 Filed 4-25-17; 8:45 am]

BILLING CODE 4154-01-P